DEPARTMENT OF LABOR

Employment and Training Administration

Investigations Regarding Eligiblity To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of December 1, 2021 through December 31, 2021.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in Federal Register.

Initial Investigations

The following are initial investigations commenced following the receipt of a properly filed petition.

TA-W No. | Subject firm | Location | Inv start date
98,129 | Plexus Corporation | Nampa, ID | 12/1/2021
98,130 | WSP USA Inc | Ephrata, PA | 12/1/2021
98,131 | Flabeg Technical Glass | Naugatuck, CT | 12/2/2021
98,132 | Marelli North Carolina USA LLC | Sanford, NC | 12/2/2021
98,133 | TE Connectivity | Carrollton, TX | 12/2/2021
98,134 | Acco Brands USA LLC | Ogdensburg, NY | 12/3/2021
98,135 | General Motors | Rochester, NY | 12/3/2021
98,136 | Tenneco Inc | Kettering, OH | 12/3/2021
98,137 | Meridian Medical Management | Windsor, CT | 12/6/2021
98,138 | Freres Lumber Company, Inc. | Lyons, OR | 12/8/2021
98,139 | General Motors Toledo Transmission | Toledo, OH | 12/8/2021
98,140 | Kauffman Engineering | Lawrenceville, IL | 12/8/2021
98,141 | Kauffman Engineering | Lebanon, IN | 12/8/2021
98,142 | FCA US LLC | Belvidere, IL | 12/8/2021
98,143 | WSP Inc. USA | New York, NY | 12/9/2021
98,144 | Stoller | Cedar Rapids, IA | 12/10/2021
98,145 | Texas New Mexico Newspaper Partnership/El Paso Time | El Paso, TX | 12/13/2021
98,146 | Experis-Jefferson Wells/Manpower Group | Winston-Salem, NC | 12/14/2021
98,147 | Oracle America Inc. | Hillsboro, OR | 12/14/2021
98,148 | Philips North America LLC | Bothell, WA | 12/15/2021
98,149 | Westinghouse Electric Company LLC | Cranberry Township, PA | 12/15/2021
98,150 | Kenworth Truck Company | Chillicothe, OH | 12/17/2021
98,151 | Medline Industries, Inc. | Temecula, CA | 12/17/2021
98,152 | AutoMate | Albany, NY | 12/22/2021
98,153 | BitTitan, Inc. | Bellevue, WA | 12/22/2021

A record of these investigations and petitions filed are available, subject to redaction, on the Department's website https://www.dol.gov/agencies/eta/tradeact under the searchable listing or by calling the Office of Trade Adjustment Assistance toll free at 888-365-6822.

Signed at Washington, DC, this 7th day of January 2022.
Hope D. Kinglock,
Certifying Officer, Office of Trade Adjustment Assistance.

[FR Doc. 2022-01019 Filed 1-19-22; 8:45 am]

BILLING CODE 4510-FN-P